DEPARTMENT OF LABOR

Employment and Training Administration

Information Collection Approval; Temporary Non-Agricultural Employment of H-2B Aliens in the United States

AGENCY: Employment and Training Administration, Department of Labor.

ACTION: Notice of Office of Management and Budget (OMB) approval of information collection requirements.

SUMMARY: The Paperwork Reduction Act (PRA) requires this notice to set forth the effectiveness of information collection requirements contained in 20 CFR part 655, related to the Temporary Non-Agricultural Employment of H-2B Aliens in the United States; Final Rule. See 77 FR 10038, Feb. 21, 2012.

DATES: On April 8, 2012, OMB approved under the PRA the Department of Labor's information collection request for requirements in 20 CFR part 655. The current expiration date for OMB authorization for this information collection is April 30, 2015.

ADDRESSES: Written comments regarding the burden-hour estimates or other aspects of the information collection requirements contained in 20 CFR part 655 may be submitted to: William L. Carlson, Ph.D., Administrator, Office of Foreign Labor Certification, Employment and Training Administration, 200 Constitution Avenue NW., Room C-4312, Washington, DC 20210.

FOR FURTHER INFORMATION CONTACT: William L. Carlson, Ph.D., Administrator, Office of Foreign Labor Certification, Employment and Training Administration, 200 Constitution Avenue NW., Room C-4312, Washington, DC 20210; Telephone: (202) 693-3010 (this is not a toll-free number).

Questions of interpretation and/or enforcement of regulations referenced in this notice may be directed to: Michael S. Jones, Acting Administrator, Office of Policy Development and Research, Employment and Training Administration, U.S. Department of Labor, Room N-5641, 200 Constitution Avenue NW., Washington, DC 20210; telephone: (202) 693-3700 (this is not a toll-free number).

This notice is available through the printed Federal Register and electronically via the http://www.gpo.gov/fdsys/browse/collection.action?collectionCode=FR Web site. Copies of this notice may be obtained in alternative formats (Large Print, Braille, Audio Tape or Disc), upon request, by calling (202) 693-0023 (not a toll-free number). TTY/TDD callers may dial toll-free (877) 889-5627 to obtain information or request materials in alternative formats.

SUPPLEMENTARY INFORMATION: OMB has approved under the PRA information collection requirements contained in recently revised final regulations under the Immigration and Nationality Act published by the Department of Labor in the Federal Register on February 21, 2012. See 77 FR 10038. The purpose of the Final Rule was to amend the H-2B regulations at 20 CFR part 655, Subpart A governing the certification of temporary employment of nonimmigrant workers in temporary or seasonal non-agricultural employment to provide for increased worker protections and improve program integrity.

On April 8, 2012, OMB approved the Department's information collection request under Control Number 1215-0466, thus giving effect to the requirements, as announced and published in the Federal Register on February 21, 2012, under the PRA. The current expiration date for OMB authorization for this information collection is April 30, 2015.

Signed in Washington, this 16th day of April, 2012.
Jane Oates,
Assistant Secretary, Employment and Training Administration.

[FR Doc. 2012-9613 Filed 4-20-12; 8:45 am]

BILLING CODE 4510-FP-P